DEPARTMENT OF STATE

[Public Notice 4623]

Comprehensive Environmental Evaluations for Antarctic Activities

AGENCY: Department of State.

ACTION: Notice.

SUMMARY: The Department of State gives notice of the availability of two draft Comprehensive Environmental Evaluations (CEEs) for activities proposed to be undertaken in Antarctica. Interested members of the public are invited to submit comments relative to these CEEs.

DATES: Comments must be submitted on or before May 17, 2004.

ADDRESSES: Send comments to OES/OA, Room 5805; Department of State; Washington, DC 20520, or to SaturniFM@state.gov.

FOR FURTHER INFORMATION CONTACT: Fabio M. Saturni, Office of Oceans Affairs, (202) 647-0237.

SUPPLEMENTARY INFORMATION: Article 3 of Annex I to the Protocol on Environmental Protection to the Antarctic Treaty requires the preparation of a CEE for any proposed Antarctic activity likely to have more than a minor or transitory impact. Draft CEEs are to be made publicly available with a 90-day period for receipt of comments. This notice is published pursuant to 16 U.S.C. 2403a(h).

The Department of State has received two draft CEEs:

1. The Czech Republic has submitted a draft CEE for construction and operation of a scientific station in Antarctica. The document is available at the following Web site: http://www.geology.cz/app/ftp/CzechStationCEE2004.zip.

2. Norway has submitted a draft CEE for upgrading a summer station to a permanent station in Antarctica. The document is available at the following Web site: ftp://ftp.npolar.no/Out/CEE/.

The Department of State invites interested members of the public to provide written comments on these draft CEEs.

Dated: February 10, 2004.
Raymond V. Arnaudo,
Deputy Director, Office of Oceans Affairs, Department of State.

[FR Doc. 04-3242 Filed 2-12-04; 8:45 am]

BILLING CODE 4710-09-P